DEPARTMENT OF HEALTH AND HUMAN SERVICES

National Institutes of Health

National Cancer Institute; Cancellation of Meeting

Notice is hereby given of the cancellation of the National Cancer Institute Clinical Trials and Translational Research Advisory Committee, November 6, 2019, 8:00 a.m. to November 6, 2019, 4:00 p.m., National Cancer Institute Shady Grove, East Wing, Conference Room TE406, 9609 Medical Center Drive, Rockville, MD 20850 which was published in the Federal Register on February 15, 2019, 84 FR 4486.

This meeting has been cancelled.

Dated: October 9, 2019.
Melanie J. Pantoja,
Program Analyst, Office of Federal Advisory Committee Policy.

[FR Doc. 2019-22448 Filed 10-15-19; 8:45 am]

BILLING CODE 4140-01-P